ENVIRONMENTAL PROTECTION AGENCY

[EPA-HQ-OPP-2018-0014; FRL-9999-39]

Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A and Table 2 of Unit II, pursuant to the Federal Insecticide, Fungicide, and Rodenticide Act (FIFRA). This cancellation order follows a July 24, 2019 Federal Register Notice of Receipt of Requests from the registrants listed in Table 3 of Unit II to voluntarily cancel and amend to terminate uses of these product registrations. In the July 24, 2019 notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective September 30, 2019.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and amendments to terminate uses, as requested by registrants, of products registered under FIFRA section 3 (7 U.S.C. 136a).

These registrations are listed in sequence by registration number in Table 1, Table 1A and Table 2 of this unit.

Table 1—Product Cancellations
Registration No. | Company No. | Product name | Active ingredients
352-761 | 352 | Dupont DPX-QFU31 (MP) Herbicide | Dicamba, sodium salt & Rimsulfuron.
6836-177 | 6836 | Lonza Formulation P-39 | Pine oil & Alkyl * dimethyl benzyl ammonium chloride * (58%C14, 28%C16, 14%C12).
8660-161 | 8660 | 0.2% Barricade Crabgrass Control with Fertilizer | Prodiamine.
8660-162 | 8660 | 0.3% Barricade Crabgrass Control with Fertilizer | Prodiamine.
8660-163 | 8660 | 0.4% Barricade Crabgrass Control with Fertilizer | Prodiamine.
8660-164 | 8660 | Sta-Green Crabgrass Preventer | Prodiamine.
8660-200 | 8660 | Koos Crabgrass Preventer with 0.223 Barricade Preemergence Herbicide | Prodiamine.
8660-216 | 8660 | Par EX Slow Release Fertilizer with .345 Barricade Herbicide | Prodiamine.
8660-249 | 8660 | Par EX Fertilizer Plus Crabgrass Preventer with 0.475% Barricade Preem | Prodiamine.
9779-297 | 9779 | Prometryne 4L Herbicide | Prometryn.
12455-107 | 12455 | Tomcat Ant Killer | Indoxacarb.
12455-118 | 12455 | Tomcat Ant Gel | Indoxacarb.
45728-29 | 45728 | SDDC | Sodium dimethyldithiocarbamate.
59820-4 | 59820 | Acarosan Moist Powder | Benylate.
64898-5 | 64898 | Razorooter | Dichlobenil.
87290-44 | 87290 | Willowood Azoxystrobin 2.08SC | Azoxystrobin.
87290-56 | 87290 | Willowood Azoxyprop Xtra | Propiconazole & Azoxystrobin.
87290-60 | 87290 | Willowood Tebustrobin SC | Tebuconazole & Azoxystrobin.
87290-63 | 87290 | Willowood Pyrac 2SC | Pyraclostrobin.
87290-64 | 87290 | Willowood Pyrac 2EC | Pyraclostrobin.
89966-2 | 89966 | Azoxystrobin Technical | Azoxystrobin.
93051-1 | 93051 | RightLine Pyrac 2 MEC | Pyraclostrobin.
93051-2 | 93051 | RightLine Pyraprop MEC | Pyraclostrobin & Propiconazole.
93051-3 | 93051 | RightLine CHILL LC | Pyraclostrobin.
93088-1 | 93088 | Pyraclostrobin Technical | Pyraclostrobin.
AL-120005 | 69969 | Avipel Liquid Corn Seed Treatment | Anthraquinone.
DE-170001 | 69969 | Avipel Liquid Corn Seed Treatment | Anthraquinone.
IA-170003 | 69969 | Avipel Liquid Corn Seed Treatment | Anthraquinone.
ID-130006 | 69969 | Avipel Liquid Corn Seed Treatment | Anthraquinone.
LA-120006 | 69969 | Avipel Liquid Corn Seed Treatment | Anthraquinone.
MA-160001 | 69969 | Avipel Liquid Corn Seed Treatment | Anthraquinone.
MI-130001 | 69969 | Avipel Liquid Corn Seed Treatment | Anthraquinone.
MN-120003 | 69969 | Avipel Liquid Corn Seed Treatment | Anthraquinone.
MO-120004 | 69969 | Avipel Liquid Corn Seed Treatment | Anthraquinone.
MO-160005 | 69969 | Avipel Liquid Corn Seed Treatment | Anthraquinone.
MS-120009 | 69969 | Avipel Liquid Corn Seed Treatment | Anthraquinone.
NC-130002 | 69969 | Avipel Liquid Corn Seed Treatment | Anthraquinone.
ND-130002 | 69969 | Avipel Liquid Corn Seed Treatment | Anthraquinone.
NJ-130002 | 69969 | Avipel Liquid Corn Seed Treatment | Anthraquinone.
NY-170005 | 69969 | Avipel Liquid Corn Seed Treatment | Anthraquinone.
PA-130001 | 69969 | Avipel Liquid Corn Seed Treatment | Anthraquinone.
SD-130003 | 69969 | Avipel Liquid Corn Seed Treatment | Anthraquinone.
SD-150006 | 69969 | Avipel Liquid Corn Seed Treatment | Anthraquinone.
SD-170003 | 69969 | Avipel Liquid Corn Seed Treatment | Anthraquinone.
TX-130001 | 69969 | Avipel Liquid Corn Seed Treatment | Anthraquinone.
UT-180006 | 69969 | Avipel Liquid Corn Seed Treatment | Anthraquinone.
VT-120001 | 69969 | Avipel Liquid Corn Seed Treatment | Anthraquinone.
WI-130004 | 69969 | Avipel Liquid Corn Seed Treatment | Anthraquinone.
WY-140003 | 69969 | Avipel Liquid Corn Seed Treatment | Anthraquinone.

Table 1A—Product Cancellations
Registration No. | Company No. | Product name | Active ingredients
1021-2753 | 1021 | VBC Dinotefuran Technical | Dinotefuran.

The registrant of the registration in Table 1A, requests the cancellation to be effective on May 01, 2019.

Table 2—Product Registration Amendments To Terminate Uses
Registration No. | Company No. | Product name | Active ingredient | Uses to be terminated
100-1453 | 100 | Stadium Fungicide | Difenoconazole; Fludioxonil & Azoxystrobin | Ornamental uses and associated label language.
42182-1 | 42182 | Microban Additive B | Triclosan | Treatment of apparel, blankets, cloths, curtains, fabrics, linens and similar textiles.
42182-7 | 42182 | Microban Additive B MUP | Triclosan | Disallow formulation into products used to make/treat agricultural plastic films/mulches; products used to treat HVAC (heating/air conditioning) coils & products used to treat textiles.
89046-11 | 89046 | Bioprotec Caterpillar Insecticide Concentrate | Bacillus thuringiensis subspecies kurstaki, strain EVB-113-19 | Forestry use.
89046-12 | 89046 | Bioprotec Plus | Bacillus thuringiensis subspecies kurstaki, strain EVB-113-19 | Forestry use.
89046-14 | 89046 | Bioprotek | Bacillus thuringiensis subspecies kurstaki, strain EVB-113-19 | Forestry use.
90736-2 | 90736 | Tebuconazole Tech | Tebuconazole | Residential use.
91232-3 | 91232 | FD Tebuconazole 3.6F | Tebuconazole | Residential use.
92760-4 | 92760 | Ultra-Fresh NM | Triclosan | Apparel use.
92760-6 | 92760 | Ultra-Fresh NM-100 | Triclosan | Apparel use.

Table 3 of this unit includes the names and addresses of record for all the registrants of the products listed in Tables 1, 1A and 2 of this unit, in sequence by EPA company number. This number corresponds to the first part of the EPA registration numbers of the products listed in Table 1, Table 1A and Table 2 of this unit.

Table 3—Registrants of Cancelled and Amended Products
EPA Company No. | Company name and address
100 | Syngenta Crop Protection, LLC, 410 Swing Road, P.O. Box 18300, Greensboro, NC 27419-8300.
352 | E. I. Du Pont De Nemours and Company, 9330 Zionsville Road, Indianapolis, IN 46268.
1021 | Mclaughlin Gormley King Company, D/B/A MGK, 8810 Tenth Ave North, Minneapolis, MN 55427-4319.
6836 | Lonza Inc., Agent Name: Exponent, Inc., 1150 Conn. Ave. NW, Suite 1100, Washington, DC 20036.
8660 | United Industries Corp., D/B/A Sylorr Plant Corp., P.O. Box 142642, St. Louis, MO 63114-0642.
9779 | Winfield Solutions, LLC, P.O. Box 64589, St. Paul, MN 55164-0589.
12455 | Bell Laboratories, Inc., 3699 Kinsman Blvd., Madison, WI 53704.
42182 | Microban Products Company, Agent Name: Scientific & Regulatory Consultants, Inc., 201 W. Van Buren Street, Columbia City, IN 46725.
45728 | Taminco US, LLC, A Subsidiary of Eastman Chemical Company, 200 S. Wilcox Dr., Kingsport, TN 37660-5147.
59820 | Allergopharma Joachim, Hermann-Korner-Str. 52, 21465 Reinbek, Germany.
64898 | Sewer Sciences, Inc., 1020 Hiawatha Boulevard West, Syracuse, NY 13204-1131.
69969 | Arkion Life Sciences, LLC, Agent Name: Landis International, Inc., 3815 Madison Highway, P.O. Box 5126, Valdosta, GA 31603-5126.
87290 | Willowood, LLC, Agent Name: Wagner Regulatory Associates, Inc., P.O. Box 640, Hockessin, DE 19707-0640.
89046 | AEF Global, Inc., Agent Name: SciReg, Inc., 12733 Director's Loop, Woodbridge, VA 22192.
89966 | Greenfields Marketing, Ltd., Agent Name: Wagner Regulatory Associates, Inc., P.O. Box 640, Hockessin, DE 19707.
90736 | Jiangsu Fengdeng Crop Science Co., Ltd., Agent Name: Pyxis Regulatory Consulting, Inc., 4110 136th St. Ct. NW, Gig Harbor, WA 98332.
91232 | Fengdeng USA, Inc., 123 Cornell Road, Bala Cynwyd, PA 19004.
92760 | Thomson Research Associates, Inc., Agent Name: Scientific & Regulatory Consultants, Inc., 201 West Van Buren Street, Columbia City, IN 46725.
93051 | RightLine, LLC, Agent Name: Pyxis Regulatory Consulting, Inc., 4110 136th Street Ct. NW, Gig Harbor, WA 98332.
93088 | Willowood USA, LLC, Agent Name: Pyxis Regulatory Consulting, Inc., 4110 136th Street Ct. NW, Gig Harbor, WA 98332.

III. Summary of Public Comments Received and Agency Response to Comments

During the public comment period provided, EPA received no comments in response to the July 24, 2019 Federal Register notice announcing the Agency's receipt of the requests for voluntary cancellations and amendments to terminate uses of products listed in Tables 1, 1A and 2 of Unit II.

IV. Cancellation Order

Pursuant to FIFRA section 6(f) (7 U.S.C. 136d(f)(1)), EPA hereby approves the requested cancellations and amendments to terminate uses of the registrations identified in Tables 1, 1A and 2 of Unit II. Accordingly, the Agency hereby orders that the product registrations identified in Tables 1, 1A and 2 of Unit II are canceled and amended to terminate the affected uses. The effective date of the cancellations and amendments listed in Table 1 and Table 2 that are subject of this notice is September 30, 2019. The registrant of the product listed in Table 1A requested the cancellation effective date of the May 1, 2019 for the product listed in Table 1A. Any distribution, sale, or use of existing stocks of the products identified in Tables 1, 1A and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 24, 2019 (84 FR 35670) (FRL-9996-16). The comment period closed on August 23, 2019.

VI. Provisions for Disposition of Existing Stocks

Existing stocks are those stocks of registered pesticide products which are currently in the United States and which were packaged, labeled, and released for shipment prior to the effective date of the action. The existing stocks provision for the products subject to this order is as follows.

A. For Product 1021-2753

The registrant of 1021-2753 listed in Table 1A, requested the cancellation to be effective on May 01, 2019; therefore, the registrant may continue to sell and distribute existing stocks of these products until May 01, 2020, which is 1 year after the effective date of the cancellation.

For all other voluntary cancellations, the registrants may continue to sell and distribute existing stocks of products listed in Table 1 until September 30, 2019, which is 1 year after publication of this cancellation order in the Federal Register. Thereafter, the registrants are prohibited from selling or distributing products listed in Tables 1 and 1A of Unit II, except for export in accordance with FIFRA section 17 (7 U.S.C. 136o) or for proper disposal.

Now that EPA has approved product labels reflecting the requested amendments to terminate uses, registrants are permitted to sell or distribute products listed in Table 2 of Unit II under the previously approved labeling until March 30, 2021, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: September 5, 2019.
Delores Barber,
Director, Information Technology and Resources Management Division, Office of Pesticide Programs.

[FR Doc. 2019-21122 Filed 9-27-19; 8:45 am]

BILLING CODE 6560-50-P